OFFICE OF THE UNITED STATES TRADE REPRESENTATIVE

Generalized System of Preferences (GSP); Public Hearings for the Petitions for the GSP 1999 Country Practices Review, Change in Schedule of Hearings and Deadlines for Submitting Comments on Petitions for the GSP 1999 Country Practices Review

AGENCY: Office of the United States Trade Representative (USTR).

ACTION: Notice of change in schedule of hearings and deadlines for submitting comments on petitions for the GSP 1999 Country Practices Review.

FOR FURTHER INFORMATION CONTACT: GSP Subcommittee, Office of the United States Trade Representative, 600 17th Street, NW, Room 518; Washington, DC 20508 (Tel. 202/395-6971).

SUPPLEMENTARY INFORMATION: Notice is hereby given of changes in the dates and location, and changes in dates for submission of comments, for the GSP public hearings to be held for country practice petitions accepted for review in the GSP 1999 Country Practices Review. These hearings were scheduled for April 3 and April 4, 2000, beginning at 10 a.m. A Federal Register notice regarding these hearings was published on February 14, 2000 (65 FR 7410-7412).

The scheduled dates for the GSP public hearings are changed from Monday, April 3, and Tuesday, April 4, to Thursday, April 13, and Friday, April 14. The location of the GSP hearings is changed from the Annex of the Office of the U.S. Trade Representative to the White House Conference Center, the Truman Room, 726 Jackson Place, NW, Washington, DC 20500. The deadline for Requests to Appear at Public Hearings and Submission of Pre-Hearing Briefs is changed to March 16. The deadline for submission of Post-Hearings Briefs and Rebuttal Briefs is changed to April 28. The hearings will begin at 10 a.m. each day. See attached calendar.

All other information in the notice at 65 FR 7410 (February 14, 2000) remains the same.

Jon Rosenbaum,
Assistant USTR for Trade and Development.

BILLING CODE 3190-01-M

[FR Doc. 00-4932 Filed 2-29-00; 8:45 am]

BILLING CODE 3910-01-C